DEPARTMENT OF COMMERCE

National Oceanic and Atmospheric Administration

[I.D. 051004D]

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) will hold a work session, which is open to the public.

DATES: The work session will be Tuesday, June 1, 2004, from 9 a.m. until 5 p.m. and Wednesday, June 2, 2004, from 9 a.m. until business for the day is completed.

ADDRESSES: The work session will be held at NMFS Southwest Fisheries Science Center, Large Conference Room, 8604 La Jolla Shores Drive, Room D-203, La Jolla, CA 92037; telephone: (858) 546-7000.

Council address: Pacific Fishery Management Council, 7700 NE Ambassador Place, Suite 200, Portland, OR 97220-1384.

FOR FURTHER INFORMATION CONTACT: Dan Waldeck, Pacific Fishery Management Council; telephone: (503) 820-2280.

SUPPLEMENTARY INFORMATION: The main purpose of this work session is for the HMSMT to continue work on development of initial recommendations for a limited entry program for the high seas longline fishery and other matters that could be included in an amendment to the fishery management plan (FMP) for Pacific Coast HMS fisheries. Specifically, in line with Council direction from the April 2004 Council meeting, the HMSMT is developing estimates of acceptable thresholds of species specific sea turtle takes under the HMS FMP. This information might be used to develop a regulatory package for restructuring fisheries under the HMS FMP. In addition, information from the Council-managed drift gillnet (DGN) fishery will be added to the fleet profile database developed by the HMSMT; including information on current DGN permit holders and active fishery participants, and landings history for the period 1997 through the present. This additional information might provide a means to consider restructuring the DGN fishery in concert with the high seas longline fishery. The rationale for expanding the database to include DGN fishery information is that the DGN fishery and high seas longline fishery, if both fisheries were allowed to operate, could require restructuring in order to ensure sea turtle takes are kept at levels that will not result in jeopardy to any Endangered Species Act-listed species. The HMSMT will report to the Council at the September 2004 Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Carolyn Porter at (503) 820-2280 at least five days prior to the meeting date.

Dated: May 13, 2004.
Alan D. Risenhoover,
Acting Director, Office of Sustainable Fisheries, National Marine Fisheries Service.

[FR Doc. E4-1178 Filed 5-17-03; 8:45 am]

BILLING CODE 3510-22-S